DEPARTMENT OF ENERGY

Certification Notice—254; Notice of Filing of Self-Certification of Coal Capability Under the Powerplant and Industrial Fuel Use Act

AGENCY: Office of Electricity Delivery, DOE.

ACTION: Notice of filing.

SUMMARY: On July 27, 2018, Panda Hummel Station LLC, as owner and operator of a new baseload electric generating powerplant, submitted a coal capability self-certification to the Department of Energy (DOE). The FUA and regulations thereunder require DOE to publish a notice of filing of self-certification in the Federal Register.

ADDRESSES: Copies of coal capability self-certification filings are available for public inspection, upon request, in the Office of Electricity, Mail Code OE-20, Room 8G-024, Forrestal Building, 1000 Independence Avenue SW, Washington, DC 20585.

FOR FURTHER INFORMATION CONTACT: Christopher Lawrence at (202) 586-5260.

SUPPLEMENTARY INFORMATION: On July 27, 2018, Panda Hummel Station LLC, as owner and operator of a new baseload electric generating powerplant, submitted a coal capability self-certification to the Department of Energy (DOE) pursuant to § 201(d) of the Powerplant and Industrial Fuel Use Act of 1978 (FUA), as amended, and DOE regulations in 10 CFR 501.60, 61. The FUA and regulations thereunder require DOE to publish a notice of filing of self-certification in the Federal Register. 42 U.S.C. 8311(d)(1) and 10 CFR 501.61(c). Title II of FUA, as amended (42 U.S.C. 8301 et seq.), provides that no new baseload powerplant may be constructed or operated without the capability to use coal or another alternate fuel as a primary energy source. Pursuant to the FUA, in order to meet the requirement of coal capability, the owner or operator of such a facility proposing to use natural gas or petroleum as its primary energy source shall certify to the Secretary of Energy (Secretary), prior to construction or prior to operation as a baseload powerplant, that such powerplant has the capability to use coal or another alternate fuel. Such certification establishes compliance with FUA section 201(a) as of the date it is filed with the Secretary. 42 U.S.C. 8311.

The following owner of a proposed new baseload electric generating powerplant has filed a self-certification of coal-capability with DOE pursuant to FUA section 201(d) and in accordance with DOE regulations in 10 CFR 501.60, 61:

Owner: Panda Hummel Station LLC.

Capacity: 1,124 megawatts (MW).

Plant Location: Shamokin Dam, PA 17876.

In-Service Date: June 2018.

Signed in Washington, DC, on August 23, 2018.
Christopher Lawrence,
Program Management Analyst, Office of Electricity.

[FR Doc. 2018-18745 Filed 8-28-18; 8:45 am]

BILLING CODE 6450-01-P